ENVIRONMENTAL PROTECTION AGENCY

[FRL-6843-2]

Notice of Public Meeting on Drinking Water Source Contamination Prevention

AGENCY: Environmental Protection Agency.

ACTION: Notice of meeting.

SUMMARY: The Environmental Protection Agency (EPA) Office of Ground Water and Drinking Water is holding a meeting on September 11, 2000 from 9 a.m. to 3 p.m. at the Embassy Suites Hotel in Alexandria, Virginia to discuss the development of a national drinking water source contamination prevention strategy. With this strategy, EPA intends to develop a national vision for preventing contamination of the lakes, rivers, springs and aquifers that serve as public drinking water sources. This strategy will guide future prevention activities, identify meaningful measures to track progress toward this vision, and identify approaches to data management. All interested public are invited to participate and provide input on the future direction of this part of the national drinking water program.

Background

Drinking water source contamination prevention means that mechanisms are in place that significantly lower the likelihood of contaminants of concern entering waters that serve as public drinking water supplies, or that are likely to be used as a drinking water supply in the future. It is an important first step to providing safe drinking water to the public.

EPA is writing this strategy as a follow-up to the input received through public forums held during 1999. Public comments indicated that there needs to be:

• More agreement on the meaning of drinking water source contamination prevention and the near term milestones;

• Better coordination with water pollution prevention programs to make sure that source water contamination prevention is an integral part of comprehensive water quality planning and protection effort;

• Increased clarity and understanding over the players and their roles in source water contamination prevention; and

• National consensus on the best way to measure progress for source water contamination prevention, and the data needed at the national level.

The tentative meeting agenda is as follows:

I. Welcome and Charge 9:00-9:15; Cynthia Dougherty, Director, EPA Office of Ground Water and Drinking Water (OGWDW)

II. Overview of Strategic Plan 9:15-10; Bill Diamond, Director, EPA Drinking Water Protection Division (DWPD), OGWDW Discussion 10-11; Facilitator

III. Presentation and Discussion of a National Goal; 11:15-12:45 Joan Harrigan-Farrelly, EPA DWPD, OGWDW

IV. Measuring Achievement; 1:45-3:00. Presentation and open discussion of proposed measures and the process for identifying national measures for source water contamination prevention Roy Simon, EPA, DWPD, OGWDW

EPA encourages input from all interested public, even those unable to attend the meeting. Copies of the draft strategy will be made available to anyone requesting copies.

Date: September 11, 2000, 9 am to 3 pm

Location: Embassy Suites Hotel, 1900 Diagonal Road, Alexandria, VA.

FOR FURTHER INFORMATION CONTACT: Please register with the Safe Drinking Water Hotline (800) 426-4791, or by e-mail, HOTLINE-SDWA@EPA.GOV. Registrants will receive an agenda and background materials, including a draft strategy prior to the meeting.

Dated: July 24, 2000.
Cynthia C. Dougherty,
Director, Office of Ground Water and Drinking Water.

[FR Doc. 00-19257 Filed 7-28-00; 8:45 am]

BILLING CODE 6560-50-P